DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The proposed collection will support a study on how consumers value vehicle fuel economy, compare the current results with those from a similar study conducted in 2003 (published in 2007), and estimate distributions of these valuation processes across the national population of car-owning and car-leasing households. The data derived from this study will be used to provide consumers with information that will help them value increased fuel economy as a means of reducing petroleum consumption, saving money on fuel, and reducing greenhouse gas emissions.

DATES: Comments regarding this collection must be received on or before February 26, 2015. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503.

And to Mr. Dennis A. Smith, U.S. Department of Energy, EE-2G, 1000 Independence Avenue SW., Washington, DC 20585-0121, Phone: 202-586-1791, Fax: 202-586-2476, Email: dennis.a.smith@ee.doe.gov.

FOR FURTHER INFORMATION CONTACT: Mr. Dennis A. Smith, Office of Energy Efficiency and Renewable Energy, U.S. Department of Energy, EE-2G, 1000 Independence Avenue SW., Washington, DC 20585-0121, by phone at 202-586-1791, or by fax at 202-586-2476, or by email at dennis.a.smith@ee.doe.gov.

SUPPLEMENTARY INFORMATION: This information collection request contains: (1) OMB No. New; (2) Information Collection Request Title: Consumers and Fuel Economy; (3) Type of Request: New Collection; (4) Purpose: The Consumers and Fuel Economy Study is a follow-on study of consumers' valuation of automotive fuel economy conducted in 2003. The purpose is to provide both a qualitative description based on in-home interviews and a quantitative estimate based on a national sample survey of the prevalence of consumers' fuel economy valuations across the population of car-owning households in the United States. The goals include the description of similarities and differences from the 2003 study and the further development of theory, models, or heuristics to explain consumers' valuations of fuel economy. This information will be made available to the general public via the joint DOE and Environmental Protection Agency Web site www.fueleconomy.gov; (5) Annual Estimated Number of Respondents: 54 household interviews (not an annual collection); (6) Annual Estimated Number of Total Responses: 54; (7) Annual Estimated Number of Burden Hours: 108 (2 hours per Respondent); (8) Annual Estimated Reporting and Recordkeeping Cost Burden: $0.

Statutory Authority: 42 U.S.C. 13233; 42 U.S.C. 13252(a)-(b); 42 U.S.C. 16191; 49 U.S.C. 32908(g)-(2)-(A).

Issued in Washington, DC, on January 20, 2015.
Patrick B. Davis,
Program Manager, Vehicle Technologies Program, Energy Efficiency and Renewable Energy.

[FR Doc. 2015-01402 Filed 1-26-15; 8:45 am]

BILLING CODE 6450-01-P